DEPARTMENT OF LABOR

Employment and Training Administration

[TA-W-70,261]

Stimson Lumber Company, Clatskanie, OR; Notice of Negative Determination Regarding Application for Reconsideration

By application dated March 11, 2010, the President of Woodworkers, Local Lodge W536, of the International Association of Machinists and Woodworkers requested administrative reconsideration of the Department's negative determination regarding eligibility to apply for Trade Adjustment Assistance (TAA), applicable to workers and former workers of the subject firm. The determination was issued on February 19, 2010, and the Department's Notice of determination was published in the Federal Register on March 12, 2010 (75 FR 11925).

Pursuant to 29 CFR 90.18(c) reconsideration may be granted under the following circumstances:

(1) If it appears on the basis of facts not previously considered that the determination complained of was erroneous;

(2) If it appears that the determination complained of was based on a mistake in the determination of facts not previously considered; or

(3) if in the opinion of the Certifying Officer, a mis-interpretation of facts or of the law justified reconsideration of the decision.

The negative determination was based on the finding that there had been no increase in imports by the company or by the company's customers of the articles produced by the subject firm; that there was no shift of production or acquisition abroad of the articles produced by the subject firm; that aggregate imports of articles like and directly competitive with those produced by the subject firm had declined absolutely and also relative to domestic consumption of those products; and that the separations at the subject facility were not the result of loss of business by the subject firm as either a supplier of components to, or a downstream finisher of articles produced by, a customer that employed a worker group that is currently eligible to apply for TAA.

In the request for reconsideration, the petitioner stated that the workers of the subject firm should be eligible for TAA because the subject firm is “in direct competition to major timber firms in Canada [and] a portion of that timber finds its way across the border and into the U.S. market.” The petitioner also alleged that “During the pertinent time period Stimson lumber has also marketed Hampton lumber under the Stimson label” and that Hampton Lumber (certification issued on September 17, 2009; TA-W-72,129) therefore “is an upstream supplier of Stimson Lumber.”

During the initial investigation, the Department received an attestation from a company official that the subject firm did not shift to a foreign country or acquire from a foreign country softwood dimensional lumber (or like or directly competitive articles) and did not increase its imports of softwood dimensional lumber (or like or directly competitive articles).

During the initial investigation, the Department conducted a customer survey (which accounted for over 65% of the subject firm's declining sales and/or production) that showed that the surveyed customers did not increase their imports of softwood dimensional lumber (or like or directly competitive articles).

During the initial investigation, the Department obtained data from the U.S. Census Bureau, the U.S. Department of Commerce, and the U.S. International Trade Commission that showed that aggregate imports of softwood dimensional lumber declined both absolutely and relative to domestic consumption.

To be eligible for a secondary certification, the subject firm must provide a component part for, or be downstream finisher for, an article produced by the firm that employed a worker group that is currently eligible to apply for TAA.

The petitioner's assertion that the subject firm markets some of the products of Hampton Lumber cannot be a basis for secondary certification because the lumber at issue is not a component part of lumber that was the basis of the certification of TA-W-72,129 and because the marketing of the Hampton Lumber does not constitute downstream production.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 8th day of July, 2010.
Del Min Amy Chen,
Certifying Officer, Division of Trade Adjustment Assistance.

[FR Doc. 2010-17390 Filed 7-15-10; 8:45 am]

BILLING CODE 4510-FN-P